DEPARTMENT OF TRANSPORTATION

Federal Aviation Administration

14 CFR Part 135

Use of Radar in Instrument Approach Procedures

AGENCY: Federal Aviation Administration (FAA), DOT.

ACTION: Final rule; technical amendment.

SUMMARY: This final rule corrects an inaccurate cross-reference citation in one of the FAA regulations. This correction is necessary to direct the reader to the actual paragraph that addresses the use of radar in instrument approaches.

DATES: This rule is effective April 15, 2008.

FOR FURTHER INFORMATION CONTACT: Dennis Pratte, 135 Air Carrier Operations Branch, AFS-250, Flight Standards Service, Federal Aviation Administration, 800 Independence Avenue, SW., Washington, DC 20591; Telephone No. (202) 493-4971; e-mail dennis.pratte@faa.gov.

SUPPLEMENTARY INFORMATION:

Background

Section 135.211 was added to Title 14 of the Code of Federal Regulations on October 10, 1978 (43 FR 46783). Paragraph (a)(2) of this section originally contained a cross-reference to paragraph (f) of 14 CFR 91.116, which addressed the use of radar in instrument approach procedures for landings. On August 18, 1989, 14 CFR part 91 was revised (54 FR 34294). As part of the revision, the information previously contained in § 91.116 transferred to § 91.175. The information formerly in § 91.116(f) became § 91.175(i). A second amendment on that same day amended § 135.211(a)(2) to change the cross-reference from § 91.116 to § 91.175 (54 FR 34332). However, the Regional Air Cargo Carriers Association informed the FAA that the reference to paragraph (f) was not changed to paragraph (i), as it should have been. As a result, the current regulations mistakenly refer readers to paragraph (f) of § 91.175, which addresses the minimum weather conditions for takeoffs under instrument flight rules, instead of paragraph (i) of § 91.175, which addresses the use of radar in instrument approach procedures for landings. This inaccurate cross-reference may cause confusion for pilots who are looking for the guidance on the use of radar when landing. Therefore, the FAA is amending § 135.211(a)(2) to correct this cross-reference.

Technical Amendment

This technical amendment will correct the cross-reference in § 135.211(a)(2) to properly refer to § 91.175(i).

Justification for Immediate Adoption

Because this action corrects an incorrect paragraph reference, the FAA finds that notice and public comment under 5 U.S.C. 553(b) is unnecessary. For the same reason, the FAA finds that good cause exists under 5 U.S.C. 553(d) for making this rule effective upon publication.

List of Subjects in 14 CFR Part 135

Aircraft, Airmen, Aviation safety.

The Amendment

In consideration of the foregoing, the Federal Aviation Administration amends Chapter I of Title 14, Code of Federal Regulations, part 135, as follows:

PART 135—OPERATING REQUIREMENTS: COMMUTER AND ON DEMAND OPERATIONS AND RULES GOVERNING PERSONS ON BOARD SUCH AIRCRAFT

1. The authority citation for part 135 continues to read as follows:

Authority: 49 U.S.C. 106(g), 41706, 40113, 44701-44702, 44705, 44709, 44711-44713, 44715-44717, 44722, 45101-45105.

§ 135.211 [Amended]

2. Amend § 135.211(a)(2) by removing the citation “§ 91.175(f)” and adding in its place the citation “§ 91.175(i)”.

Issued in Washington, DC, on April 9, 2008.
Pamela Hamilton-Powell,
Director, Office of Rulemaking.

[FR Doc. E8-7966 Filed 4-14-08; 8:45 am]

BILLING CODE 4910-13-P